PUBLIC BUILDINGS REFORM BOARD

Notice of Public Meeting by the Public Buildings Reform Board

AGENCY: Public Buildings Reform Board.

ACTION: Notice of public meeting.

SUMMARY: As provided by the Federal Assets Sale and Transfer Act of 2016 (FASTA), the Public Buildings Reform Board (PBRB) is holding its eleventh public meeting. At this meeting, the Board will discuss the progress of past rounds and well as plans for a future round.

DATES: The meeting is scheduled for Wednesday, July 30, 2025, from 11:00 a.m. to 12:00 p.m. (Eastern Time).

ADDRESSES: The meeting will be held at the Jones Lang Lasalle offices, One Post Office Square, Suite 1100, Boston, Massachusetts 02109.

FOR FURTHER INFORMATION CONTACT: Paul Walden, PBRB, at (202) 716-8165, or questions and comments can be forwarded to the PBRB Team by email at fastainfo@pbrb.gov.

SUPPLEMENTARY INFORMATION:

Background: FASTA created the PBRB as an independent Board to identify opportunities for the Federal government to significantly reduce its inventory of civilian real property and thereby reduce costs. The Board is directed, within 6 months of its formation, to recommend to the Office of Management and Budget (OMB) the sale of not fewer than five properties not on the list of surplus or excess with a fair market value of not less than $500 million and not more than $750 million. The Board, to date, has submitted three rounds of recommendations. The Thomas R. Carper Water Resources Development Act of 2024 (WRDA) extended the Board to December 31, 2026 and allows for the submission one additional round of recommendations (Round 3).

Format and Registration: The format for the meeting will be panel discussions with appropriate time allowed for a Q&A segment. Interested participants must register for the public meeting via this link: https://forms.gle/SWDtGEp2831Fyw6c7.

Individuals wishing to attend who require special assistance or accommodations must contact the PBRB Team at fastainfo@pbrb.gov at least 12 days prior to the event.

Portions of the meeting may be held in executive session if the Board is considering issues involving classified or proprietary information.

A transcript of the public meeting will be uploaded to pbrb.gov shortly after the session.

If you have any additional questions, please email fastainfo@pbrb.gov.

Authority: Pub. L. 114-287, 130 Stat 1463.

Paul Walden,
Executive Director, Federal Register Liaison, Public Buildings Reform Board.

[FR Doc. 2025-10917 Filed 6-13-25; 8:45 am]

BILLING CODE P